DEPARTMENT OF TRANSPORTATION

Federal Aviation Administration

14 CFR Part 71

[Airspace Docket No. 00-ANM-18]

Revision of Class E Airspace, Vernal, UT

AGENCY: Federal Aviation Administration (FAA), DOT.

ACTION: Final rule; correction.

SUMMARY: This action corrects a final rule published on July 23, 2001. The final rule was published past the cut-off date to meet the effective date of the airspace. Additionally, typographical errors in the airspace description has made this correction necessary. This action corrects the final rule by reflecting the new effective date and correction of text in the legal description.

EFFECTIVE DATE: 0901 UTC, November 1, 2001.

FOR FURTHER INFORMATION CONTACT: Brian Durham, ANM-520.7, Federal Aviation Administration, Docket No. 00-ANM-18, 1601 Lind Avenue S.W., Renton, Washington 98055-4056; telephone number: (425) 227-2527.

SUPPLEMENTARY INFORMATION: On July 23, 2001, the FAA published a final rule that revised Class E airspace at Vernal, UT (66 FR 38149). However, that action was published beyond the date required to meet the effective date for charting purposes, therefore, this action establishes the new effective date as November 1, 2001. Additionally, typographical errors in the legal description are in need of correction to properly reflect the intent of the action. This action corrects the effective date of the airspace and corrects typographical errors in the legal description.

Correction to Final Rule

Accordingly, pursuant to the authority delegated to me, the Class E airspace description at Vernal, UT, as published in the Federal Register on July 23, 2001 (66 FR 38149), (Federal Register Document No. 01-18236) is corrected as follows:

§ 71.1 [Corrected]

1. On page 38149, revise the EFFECTIVE DATE: to read “0901 UTC, November 1, 2001”; in the legal description, line 11, delete the word “to” insert the word “from”, should read “from 1,200 feet above the surface”; in the legal description, line 16, insert “lat.” in front of “39°43′00″N,” should read “lat. 39°43′00″N”.

Issued in Seattle, Washington, on August 15, 2001.
Daniel A. Boyle,
Assistant Manager, Air Traffic Division, Northwest Mountain Region.

[FR Doc. 01-21818 Filed 8-28-01; 8:45 am]

BILLING CODE 4910-13-M